DEPARTMENT OF ENERGY

Federal Energy Regulatory Commission

[Docket No. CP16-10-000; Docket No. CP16-13-000]

Mountain Valley Pipeline LLC; Equitrans LP; Notice of Revised Schedule for Environmental Review of the Mountain Valley Project and the Equitrans Expansion Project

This notice identifies the Federal Energy Regulatory Commission staff's revised schedule for the completion of the environmental impact statement (EIS) for Mountain Valley Pipeline LLC's (Mountain Valley) Mountain Valley Project and Equitrans LP's (Equitrans) Equitrans Expansion Project. The first notice of schedule, issued on June 28, 2016, identified a final EIS date of March 10, 2017. However, in response to comments on the draft EIS issued September 16, 2016 (with a comment closing date of December 22, 2016), staff produced several environmental information requests sent to Mountain Valley and Equitrans in January and March, 2017, and only recently received information necessary for us to complete our environmental review. As a result, staff has revised the schedule for issuance of the final EIS.

Schedule for Environmental Review

Issuance of Notice of Availability of the final EIS—June 23, 2017

90-day Federal Authorization Decision Deadline—September 21, 2017

If a schedule change becomes necessary, an additional notice will be provided so that the relevant agencies are kept informed of the project's progress.

Additional Information

In order to receive notification of the issuance of the final EIS and to keep track of all formal issuances and submittals in specific dockets, the Commission offers a free service called eSubscription (http://www.ferc.gov/docs-filing/esubscription.asp).

Dated: March 31, 2017.
Kimberly D. Bose,
Secretary.

[FR Doc. 2017-06835 Filed 4-5-17; 8:45 am]

BILLING CODE 6717-01-P